DEPARTMENT OF TRANSPORTATION

Federal Aviation Administration

Notice of Intent To Rule on Application 05-05-C-00-IAD To Impose and Use the Revenue From a Passenger Facility Charge (PFC) at Washington Dulles International Airport, Dulles, VA

AGENCY: Federal Aviation Administration (FAA), DOT.

ACTION: Notice of intent to rule on application.

SUMMARY: The FAA proposes to rule and invites public comment on the application to impose and use the revenue from a PFC at Washington Dulles International Airport under the provisions of the 49 U.S.C. 40117 and Part 158 of the Federal Aviation Regulations (14 CFR part 158).

DATES: Comments must be received on or before June 27, 2005.

ADDRESSES: Comments on this application may be mailed or delivered in triplicate to the FAA at the following address: Washington Airports District Office, 23723 Air Freight Lane, Suite 210, Dulles, Virginia 20166.

In addition, one copy of any comments submitted to the FAA must be mailed or delivered to Ms. E. Lynn Hampton; Vice President and Chief Financial Officer of the Metropolitan Washington Airports Authority at the following address: 1 Aviation Circle, Washington, DC 20001-6000.

Air carriers and foreign air carriers may submit copies of written comments previously provided to the Metropolitan Washington Airports Authority under § 158.23 of Part 158.

FOR FURTHER INFORMATION CONTACT: Mr. Terry J. Page, Manager, Washington Airports District Office, 23723 Air Freight Lane, Suite 210, Dulles, Virginia 20166, Telephone: 703-661-1354.

The application maybe reviewed in person at this same location.

SUPPLEMENTARY INFORMATION: The FAA proposes to rule and invites public comment on the application to impose and use the revenue from a PFC at Washington Dulles International Airport under the provisions of the 49 U.S.C. 40117 and Part 158 of the Federal Aviation Regulations (14 CFR Part 158).

On April 21, 2005, the FAA determined that the application to impose and use the revenue from a PFC submitted by the Metropolitan Washington Airports Authority was substantially complete within the requirements of section 158.25 of Part 158. The FAA will approve or disapprove the application, in whole or in part, no later than August 19, 2005.

The following is a brief overview of the application.

Proposed charge effective date: February 1, 2007.

Proposed charge expiration date: May 27, 2017.

Level of the proposed PFC: $4.50.

Total estimated PFC revenue: $672,867,249.

Brief description of proposed project(s): People Mover System, Tunnels, and Stations.

Class or classes of air carriers which the public agency has requested not be required to collect PFCs: Air Taxi/Commercial Operators (ATCO) required to file FAA form 1800-31.

Any person may inspect the application in person at the FAA office listed above under FOR FURTHER INFORMATION CONTACT and at the FAA regional Airports office located at: Federal Aviation Administration, Eastern Region, 1 Aviation Plaza, Jamaica, New York 11434-4809.

In addition, any person may, upon request, inspect the application, notice and other documents germane to the application in person at the Metropolitan Washington Airports Authority.

Issued in Dulles, Virginia, on May 19, 2005.
Terry J. Page,
Manager, Washington Airports District Office, Eastern Region.

[FR Doc. 05-10604 Filed 5-26-05; 8:45 am]

BILLING CODE 4910-13-M